DEPARTMENT OF TRANSPORTATION

Federal Aviation Administration

[Docket No. FAA-2008-0608]

Hawaii Air Tour Common Procedures Manual, FAA AWP13-136A

AGENCY: Federal Aviation Administration (FAA), DOT.

ACTION: Notice of availability.

SUMMARY: This notice announces the availability of and requests comments on the proposed draft for the Hawaii Air Tour Common Procedures Manual, draft AWP13-136A.

DATES: We must receive your comments by July 21, 2008.

ADDRESSES: You may send comments identified by Docket Number FAA-2008-0608 using the following method:

• Federal eRulemaking Portal: Go to http://www.regulations.gov and follow the online instructions for sending your comments electronically.

FOR FURTHER INFORMATION CONTACT: For technical questions regarding the Hawaii Air Tour Common Procedures Manual, contact: Edwin D. Miller, Air Transportation Division, 135 Air Carrier Operations Branch, AFS-250, Federal Aviation Administration, 800 Independence Avenue, SW., Washington, DC 20591; telephone (202) 267-8166; e-mail edwin.miller@faa.gov. For legal questions concerning this rulemaking, contact: Paul G. Greer, FAA Office of the Chief Counsel, 800 Independence Ave., SW., Washington, DC 20591; telephone (202) 267-7930; e-mail paul.g.greer@faa.gov.

SUPPLEMENTARY INFORMATION:

Comments Invited

We invite interested people to comment on the proposed Hawaii Air Tour Common Procedures Manual by sending written data, views, or arguments. You should include the Federal docket number FAA-2008-0680 in your comments. We will consider all communications received by the closing date for comments.

Availability of Document

The proposed Hawaii Air Tour Common Procedures Manual, Operations Specifications B048 (Air Tour Operations Below 1,500 feet AGL in the State of Hawaii), and Letter of Authorization B048 (Air Tour Operations Below 1,500 feet AGL in the State of Hawaii), can be found and downloaded from the Internet at the following sites:

• FAA Web site: Go to http://www.faa.gov/about/office_org/headquarters_offices/avs/offices/afs/afs200/branches/afs250/media/HawaiiCPM.pdf.

• Federal eRulemaking Portal Web: Go to http://www.regulations.gov and search for the document using the Federal docket number FAA-2008-0680.

Since the manual is so large, the FAA will not be able to provide a paper copy upon request. The electronic version of this document consists of a total of nine (9) files: The manual (1 file); the islands of operations (6 files); Operations Specification (1 file); and the LOA (1 file). Some files are in Adobe PDF format, and two files are in Microsoft Word format. Please note that the Word files are very large and may take a few minutes to download.

Discussion

The proposed Hawaii Air Tour Common Procedures Manual supports the operational guidance for all commercial air tour operators authorized to conduct operations below 1,500′ above the ground level (AGL) within the state of Hawaii. Authorized part 91 and part 135 operators will be required to comply with the requirements and limitations set forth in this manual when it is adopted. Prior to conducting commercial air tour operations below 1,500′ AGL, pilots must receive operator specific training as outlined in the common procedures manual for part 91 and 135 air tour operators in the State of Hawaii. The common procedures manual covers a variety of training requirements and operational requirements, including air tour operations below 1,500′ AGL, recurrent flight training, visibility restrictions, map legend and definitions, radio communications procedures, Weather Enhanced Safety Areas (WESA), site specific and enroute operations. It also includes detailed maps and photos, and over water specific procedures for every island in the state of Hawaii.

Issued in Washington, DC, on June 17, 2008.
Gary Davis,
Air Transportation Division, Acting Manager of AFS-200.

[FR Doc. E8-14014 Filed 6-19-08; 8:45 am]

BILLING CODE 4910-13-P